DEPARTMENT OF TRANSPORTATION

Surface Transportation Board

[STB Finance Docket No. 34763]

The Columbus & Ohio River Rail Road Company—Trackage Rights Exemption—Ohio Rail Development Commission and Ohi-Rail Corporation

Ohi-Rail Corporation (ORC), a Class III rail carrier, and the Ohio Rail Development Commission (ORDC)¹ have agreed to grant nonexclusive trackage rights to The Columbus & Ohio River Rail Road Company (CUOH),² a Class III rail carrier, over a portion of a line of railroad known as the Piney Fork Line, between approximately milepost 74.0 at the Pan Interchange, near Hopedale, OH, where it connects with CUOH's line, and approximately milepost 66.1 at the point 2 miles north of the Apex Landfill switch, a distance of approximately 7.9 miles.³ The transaction was scheduled to be consummated on or about October 1, 2005.

¹ ORC operates the involved line, which is owned by ORDC, an independent commission within the Ohio Department of Transportation.

² CUOH is a wholly owned subsidiary of Summit View, Inc., a noncarrier holding company.

³ The Piney Fork Line extends between approximately milepost 43.5 in Minerva, OH, on the north, and approximately milepost 77.7 in Hopedale, OH, on the south.

The purpose of the trackage rights is to permit CUOH to provide rail service to the Apex Landfill in Springfield Township, Jefferson County, OH, via its east-west line between Bowerston and Mingo Junction, OH.

This notice is filed under 49 CFR 1180.2(d)(7). If it contains false or misleading information, the exemption is void ab initio. Petitions to revoke the exemption under 49 U.S.C. 10502(d) may be filed at any time. The filing of a petition to revoke will not automatically stay the transaction.

Under 49 U.S.C. 10502(g), the Board may not use its exemption authority to relieve a rail carrier of its statutory obligation to protect the interests of its employees. Section 11326(c), however, does not provide for labor protection for transactions under section 11324 and 11325 that involve only Class III rail carriers. Accordingly, the Board may not impose labor protective conditions here, because all of the carriers involved are Class III carriers.

An original and 10 copies of all pleadings, referring to STB Finance Docket No. 34763, must be filed with the Surface Transportation Board, 1925 K Street, NW., Washington, DC 20423-0001. In addition, one copy of each pleading must be served on Andrew B. Kolesar III, Slover & Loftus, 1224 17th Street, NW., Washington, DC 20036.

Board decisions and notices are available on our Web site at http://www.stb.dot.gov.

Decided: October 3, 2005.
By the Board, David M. Konschnik, Director, Office of Proceedings.
Vernon A. Williams,
Secretary.

[FR Doc. 05-20246 Filed 10-7-05; 8:45 am]

BILLING CODE 4915-01-P